DEPARTMENT OF THE TREASURY

Office of Foreign Assets Control

Unblocking of Specially Designated Nationals and Blocked Persons Pursuant to the Cuban Assets Control Regulations

AGENCY: Office of Foreign Assets Control, Treasury.

ACTION: Notice.

SUMMARY: The Department of the Treasury's Office of Foreign Assets Control (OFAC) is publishing the name of five individuals, 53 entities, and one vessel whose property and interests in property have been unblocked pursuant to the Cuban Assets Control Regulations, 31 CFR part 515.

DATES: The unblocking and removal from the list of Specially Designated Nationals and Blocked Persons (SDN List) of the individuals, entities, and vessel identified in this notice is effective June 4, 2015.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

The SDN List and additional information concerning OFAC are available from OFAC's Web site (www.treas.gov/ofac). Certain general information pertaining to OFAC's sanctions programs is available via facsimile through a 24-hour fax-on-demand service, tel.: 202/622-0077.

Background

On June 4, 2015, the Associate Director of OFAC removed from the SDN List the individuals, entities, and vessel listed below, whose property and interests in property were blocked pursuant to the Cuban Assets Control Regulations:

Individuals

1. ALOARDI, Carlo Giovanni, Milan, Italy (individual) [CUBA].

2. CRUZ REYES, Antonio Pedro, Milan, Italy (individual) [CUBA].

3. HERNANDEZ CARBALLOSA, Alexis Eneilo, Milan, Italy (individual) [CUBA].

4. LOPEZ, Quirino Gutierrez, c/o ANGLO CARIBBEAN SHIPPING CO., LTD., 7th Floor, Ibex House, the Minories, London EC3N 1DY, United Kingdom (individual) [CUBA].

5. ORS, Jose Antonio Rego, Tokyo, Japan (individual) [CUBA].

Entities

1. MARINE REGISTRATION COMPANY, Panama [CUBA].

2. CANIPEL S.A. (a.k.a. CANAPEL S.A.), c/o EMPRESA DE NAVEGACION MAMBISA, Apartado 543, San Ignacio 104, Havana, Cuba [CUBA].

3. EAST ISLAND SHIPPING CO. LTD., c/o EMPRESA DE NAVEGACION MAMBISA, Apartado 543, San Ignacio 104, Havana, Cuba [CUBA].

4. NORTH ISLAND SHIPPING CO. LTD., c/o UNION MARITIMA PORTUARIA, 9-Piso, Apartado B, Esquina Cuarteles y Pena Pobre 60, Havana Vieje, Havana, Cuba [CUBA].

5. SOUTH ISLAND SHIPPING CO. LTD., c/o EMPRESA DE NAVEGACION MAMBISA, Apartado 543, San Ignacio 104, Havana, Cuba [CUBA].

6. WEST ISLAND SHIPPING CO. LTD., c/o UNION MARITIMA PORTUARIA, 9-Piso, Apartado B, Esquina Cuarteles y Pena Pobre 60, Havana Vieja, Havana, Cuba [CUBA].

7. BRADFIELD MARITIME CORPORATION INC., c/o EMPRESA DE NAVEGACION MAMBISA, Apartado 543, San Ignacio 104, Havana, Cuba [CUBA].

8. WADENA SHIPPING CORPORATION, c/o EMPRESA DE NAVEGACION MAMBISA, Apartado 543, San Ignacio 104, Havana, Cuba [CUBA].

9. ACEFROSTY SHIPPING CO., LTD., 171 Old Bakery Street, Valletta, Malta [CUBA].

10. ARION SHIPPING CO., LTD., 60 South Street, Valletta, Malta [CUBA].

11. GOLDEN COMET NAVIGATION CO. LTD., c/o EMPRESA DE NAVEGACION MAMBISA, Apartado 543, San Ignacio 104, Havana, Cuba [CUBA].

12. GRETE SHIPPING CO. S.A., c/o EMPRESA DE NAVEGACION CARIBE, Edificio Lonja del Comercio, Lamparilla 2, Caja Postal 1784, Havana 1, Cuba [CUBA].

13. KASPAR SHIPPING CO. S.A., c/o EMPRESA DE NAVEGACION CARIBE, Edificio Lonja del Comercio, Lamparilla 2, Caja Postal 1784, Havana 1, Cuba [CUBA].

14. MARYOL ENTERPRISES INC., c/o EMPRESA DE NAVEGACION MAMBISA, Apartado 543, San Ignacio 104, Havana, Cuba [CUBA].

15. NAVIGABLE WATER CORPORATION, c/o EMPRESA DE NAVEGACION CARIBE, Edificio Lonja del Comercio, Lamparilla 2, Caja Postal 1784, Havana 1, Cuba [CUBA].

16. VALETTA SHIPPING CORPORATION, c/o EMPRESA DE NAVEGACION MAMBISA, Apartado 543, San Ignacio 104, Havana, Cuba [CUBA].

17. ACE INDIC NAVIGATION CO. LTD., c/o ANGLO-CARIBBEAN SHIPPING CO. LTD., 4th Floor, South Phase 2, South Quay Plaza II, 183, March Wall, London, United Kingdom [CUBA].

18. ACECHILLY NAVIGATION CO. LTD., c/o ANGLO-CARIBBEAN SHIPPING CO. LTD., 4th Floor, South Phase 2, South Quay Plaza II, 183, March Wall, London, United Kingdom [CUBA].

19. AIRMORES SHIPPING CO. LTD. (a.k.a. AIMOROS SHIPPING CO. LTD.), c/o MELFI MARINE CORPORATION S.A., Oficina 7, Edificio Senorial, Calle 50, Apartado 31, Panama City 5, Panama [CUBA].

20. ANTILLANA SALVAGE CO. LTD., c/o EMPRESA ANTILLANA DE SALVAMENTO, 4th Floor, Lonja del Comercio, Havana Vieja, Havana, Cuba [CUBA].

21. ATAMALLO SHIPPING CO. LTD. (a.k.a. ANTAMALLO SHIPPING CO. LTD.), c/o EMPRESA DE NAVEGACION MAMBISA, Apartado 543, San Ignacio 104, Havana, Cuba [CUBA].

22. BETTINA SHIPPING CO. LTD., c/o EMPRESA DE NAVEGACION MAMBISA, Apartado 543, San Ignacio 104, Havana, Cuba [CUBA].

23. EPAMAC SHIPPING CO. LTD., c/o EMPRESA DE NAVEGACION MAMBISA, Apartado 543, San Ignacio 104, Havana, Cuba [CUBA].

24. FLIGHT DRAGON SHIPPING LTD., c/o ANGLO-CARIBBEAN SHIPPING CO. LTD., 4th Floor, South Phase 2, South Quay Plaza II, 183, March Wall, London, United Kingdom [CUBA].

25. HUNTSLAND NAVIGATION CO. LTD., c/o NIPPON CARIBBEAN SHIPPING CO. LTD., 8th Floor, Tsukiji Hosoda Building, 2-1, Tsukiji 2-chome, Chuo-ku, Tokyo, Japan [CUBA].

26. HUNTSVILLE NAVIGATION CO. LTD., c/o NIPPON CARIBBEAN SHIPPING CO. LTD., 8th Floor, Tsukiji Hosoda Building, 2-1, Tsukiji 2-chome, Chuo-ku, Tokyo, Japan [CUBA].

27. SOCIETA COMMERCIA MINERALI E METTALLI, SRL (a.k.a. SOCOMET, SPA), Milan, Italy [CUBA].

28. YAMARU TRADING CO., LTD., Tokyo, Japan [CUBA].

29. TRAMP PIONEER SHIPPING CO., c/o Anglo Caribbean Shipping Co., Ltd., 4th Floor, South Phase 2, South Quay Plaza, 183 Mars, London E14 9SH, United Kingdom; Panama [CUBA].

30. CARIBBEAN PRINCESS SHIPPING LTD., c/o EMPRESA DE NAVEGACION MAMBISA, Apartado 543, San Ignacio 104, Havana, Cuba [CUBA].

31. CARIBBEAN QUEEN SHIPPING LTD., c/o EMPRESA DE NAVEGACION MAMBISA, Apartado 543, San Ignacio 104, Havana, Cuba [CUBA].

32. SENANQUE SHIPPING CO. LTD., c/o EMPRESA DE NAVEGACION CARIBE, Edificio Lonja del Comercio, Lamparilla 2, Caja Postal 1784, Havana 1, Cuba [CUBA].

33. WHITE SWAN SHIPPING CO. LTD., c/o EMPRESA DE NAVEGACION CARIBE, Edificio Lonja del Comercio, Lamparilla 2, Caja Postal 1784, Havana 1, Cuba [CUBA].

34. CIMECO, SRL, Milan, Italy [CUBA].

35. DESARROLLO INDUSTRIAL CUBANO ESPANOL, S.A. (a.k.a. DICESA), Paseo De La Castellana 157, Madrid, Spain; Jose Lazaro Caldeano, 6-6, Madrid 28016, Spain [CUBA].

36. OCTUBRE HOLDING SOCIETE ANONIME (a.k.a. OCTOBER HOLDING COMPANY), Vaduz, Liechtenstein [CUBA].

37. QUIMINTER GMBH, Vienna, Austria [CUBA].

38. UNITED FAIR AGENCIES, 1202 Carrian Center, 151 Gloucester Road, Wanchai, Hong Kong [CUBA].

39. CARIBERIA, S.A., Spain [CUBA].

40. CORPORACION IBEROAMERICANA DEL COMERCIO (a.k.a. CIDECO), Spain [CUBA].

41. DURGACO, London, United Kingdom [CUBA].

42. GUAMATUR, Buenos Aires, Argentina [CUBA].

43. HABANOS TRADING, Geneva, Switzerland [CUBA].

44. PESCABRAVA, S.A., France [CUBA].

45. PESCABRAVA, S.A., Italy [CUBA].

46. PEONY SHIPPING CO. LTD., c/o NORDSTRAND MARITIME & TRADING CO. LTD., 26 Skouze Street, Piraeus, Greece [CUBA].

47. PIRANHA NAVIGATION CO. LTD., c/o NORDSTRAND MARITIME & TRADING CO. LTD., 26 Skouze Street, Piraeus, Greece [CUBA].

48. REDESTOS SHIPPING CO. LTD., c/o EMPRESA DE NAVEGACION MAMBISA, Apartado 543, San Ignacio 104, Havana, Cuba [CUBA].

49. STANDWEAR SHIPPING CO. LTD., c/o EMPRESA DE NAVEGACION MAMBISA, Apartado 543, San Ignacio 104, Havana, Cuba [CUBA].

50. VIOLET NAVIGATION CO. LTD., c/o EMPRESA DE NAVEGACION MAMBISA, Apartado 543, San Ignacio 104, Havana, Cuba [CUBA].

51. PAMIT C. SHIPPING CO., LTD., Limassol, Cyprus [CUBA].

52. PIONEER SHIPPING LTD., 171 Old Bakery Street, Valletta, Malta; c/o Anglo Caribbean Shipping Co., Ltd., 4th Floor, South Phase 2, South Quay Plaza 2, 183 Marsh Wall, London E14 9SH, United Kingdom [CUBA].

53. GUAMAR SHIPPING CO. S.A., c/o EMPRESA DE NAVEGACION CARIBE, Edificio Lonja del Comercio, Lamparilla 2, Caja Postal 1784, Havana 1, Cuba [CUBA].

Vessels

1. STAR 1 Unknown vessel type (Canapel, S.A., Panama) (vessel) [CUBA].

Dated: June 4, 2015.
Gregory T. Gatjanis,
Associate Director, Office of Global Targeting, Office of Foreign Assets Control.

[FR Doc. 2015-14215 Filed 6-9-15; 8:45 am]

BILLING CODE 4810-AL-P